DEPARTMENT OF COMMERCE

International Trade Administration

[C-533-884, C-570-081, C-549-838]

Glycine From India, the People's Republic of China, and Thailand: Postponement of Preliminary Determinations of Countervailing Duty Investigations

AGENCY: Enforcement and Compliance, International Trade Administration, Department of Commerce.

DATES: Applicable June 7, 2018.

FOR FURTHER INFORMATION CONTACT: Chelsey Simonovich at 202-482-1979 (India); Tyler Weinhold at 202-482-1121 (the People's Republic of China (China)); George Ayache at 202-482-2623 (Thailand), AD/CVD Operations, Enforcement and Compliance, International Trade Administration, U.S. Department of Commerce, 1401 Constitution Avenue NW, Washington, DC 20230.

SUPPLEMENTARY INFORMATION:

Background

On April 25, 2018, the Department of Commerce (Commerce) initiated countervailing duty (CVD) investigations on glycine from India, China, and Thailand.¹ Currently, the preliminary determinations of these investigations are due no later than June 21, 2018.

¹ See Glycine from India, the People's Republic of China, and Thailand: Initiation of Countervailing Duty Investigations, 83 FR 18002 (April 25, 2018) (Initiation Notice).

Postponement of Preliminary Determination

Section 703(b)(1) of the Tariff Act of 1930, as amended (the Act), requires Commerce to issue the preliminary determination in a CVD investigation within 65 days after the date on which Commerce initiated the investigation. However, if the petitioner makes a timely request for a postponement, section 703(c)(1)(A) of the Act allows Commerce to postpone making the preliminary determination until no later than 130 days after the date on which Commerce initiated the investigation. Under 19 CFR 351.205(e), a petitioner must submit a request for postponement 25 days or more before the scheduled date of the preliminary determination and must state the reason for the request. Commerce will grant the request unless it finds compelling reasons to deny the request.

On May 22, 2018, GEO Specialty Chemicals, Inc. and Chattem Chemicals, Inc. (collectively, the petitioners) submitted timely requests, pursuant to section 703(c)(1)(A) of the Act and 19 CFR 351.205(e), to postpone the preliminary determinations.² The petitioners state that the current investigation schedule does not provide adequate time to develop the record prior to the preliminary determination. The petitioners, therefore, request postponement of the preliminary determination to allow parties sufficient time to develop the record, including analyzing questionnaire responses and permit the issuance of supplemental questionnaires, if necessary. According to petitioners, postponement of the preliminary determination by the maximum extension of 65 additional days in this case would allow sufficient time for Commerce to develop the record in this investigation.

² See the petitioners' letter re: Glycine from the People's Republic of China, India and Thailand: Request to Extend Deadline for Preliminary Determinations, dated May 22, 2018.

In accordance with 19 CFR 351.205(e), the petitioners have stated the reasons for requesting a postponement of the preliminary determination, and Commerce finds there are no compelling reasons to deny the requests. Therefore, in accordance with section 703(c)(1)(A) of the Act, Commerce is postponing the deadline for the preliminary determinations to no later than 130 days after the day on which the investigations were initiated, i.e., April 17, 2018. Accordingly, Commerce will issue the preliminary determinations no later than August 27, 2018.³ In accordance with section 705(a)(1) of the Act and 19 CFR 351.210(b)(1), the deadline for the final determinations of these investigations will continue to be 75 days after the date of the preliminary determinations, unless postponed at a later date.

³ See 19 CFR 351.303(b)(1) and (2). Postponing the preliminary determination to 130 days after initiation would place the deadline on Saturday, August 25, 2018. Commerce's practice dictates that where a deadline falls on a weekend or a federal holiday, the appropriate deadline is the next business day. This date reflects the next business day after the deadline of August 25, 2018. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: June 1, 2018.
Gary Taverman,
Deputy Assistant Secretary for Antidumping and Countervailing Duty Operations, performing the non-exclusive functions and duties of the Assistant Secretary for Enforcement and Compliance.

[FR Doc. 2018-12272 Filed 6-6-18; 8:45 am]

BILLING CODE 3510-DS-P